ENVIRONMENTAL PROTECTION AGENCY

40 CFR Part 52

[EPA-R06-OAR-2012-0098; FRL-9926-92-Region-6]

Approval and Promulgation of Air Quality Implementation Plans; Texas; Attainment Demonstration for the Dallas/Fort Worth 1997 8-Hour Ozone Nonattainment Area; Determination of Attainment of the 1997 Ozone Standard

AGENCY: Environmental Protection Agency (EPA).

ACTION: Proposed rule.

SUMMARY: The Environmental Protection Agency (EPA) is proposing to disapprove revisions to the Texas State Implementation Plan (SIP) submitted to meet certain requirements under section 182(c) of the Clean Air Act (CAA or Act) for the Dallas/Fort Worth (DFW) nonattainment area under the 1997 8-hour ozone standard. The revisions address the attainment demonstration submitted on January 17, 2012, by the Texas Commission on Environmental Quality (TCEQ) for the DFW Serious nonattainment area. The EPA is also proposing to determine that the DFW 8-hour ozone nonattainment area is currently attaining the 1997 ozone National Ambient Air Quality Standard (NAAQS). This determination is based upon certified ambient air monitoring data that show the area has monitored attainment of the 1997 ozone NAAQS for the 2012-2014 monitoring period. If this proposed determination is made final, the requirements for this area to submit an attainment demonstration, a reasonable further progress (RFP) plan, contingency measures, and other planning SIPs related to attainment of the 1997 ozone NAAQS shall be suspended for so long as the area continues to attain the 1997 ozone NAAQS. This proposed action is consistent with the requirements of section 110 and part D of the CAA.

DATES: Comments must be received on or before May 28, 2015.

ADDRESSES: Submit your comments, identified by Docket No. EPA-R06-OAR-2012-0098, by one of the following methods:

• www.regulations.gov. Follow the on-line instructions.

• Email: Ms. Carrie Paige at paige.carrie@epa.gov.

• Mail or delivery: Mr. Guy Donaldson, Chief, Air Planning Section (6PD-L), Environmental Protection Agency, 1445 Ross Avenue, Suite 1200, Dallas, Texas 75202-2733.

Instructions: Direct your comments to Docket No. EPA-R06-OAR-2012-0098. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: The index to the docket for this action is available electronically at www.regulations.gov and in hard copy at EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Ms. Carrie Paige, telephone (214) 665-6521, email address paige.carrie@epa.gov. To inspect the hard copy materials, please contact Ms. Paige or Mr. Bill Deese at (214) 665-7253.

SUPPLEMENTARY INFORMATION: Throughout this document, “we,” “us,” and “our” means EPA.

Table of Contents

I. What is the EPA proposing?

II. Our Action Under Section 182(c) of the CAA (the Serious Area Requirements)

A. Background

B. What is the EPA proposing to disapprove?

C. What are the consequences of a disapproved SIP?

III. Our Action Under the Clean Data Determination

A. Background

B. EPA's Analysis of the Relevant Air Quality Data

IV. Proposed Action

V. Statutory and Executive Order Reviews

I. What is the EPA proposing?

The EPA is proposing to disapprove Texas's 8-hour ozone attainment demonstration for the DFW Serious nonattainment area because the area failed to attain the 1997 ozone NAAQS by the June 15, 2013 attainment date. EPA's analysis and findings are discussed in this proposed rulemaking.

We are also proposing to determine that the DFW ozone nonattainment area is currently in attainment of the 1997 ozone standard based on the most recent 3 years of quality-assured air quality data. Certified ambient air monitoring data show that the area has monitored attainment of the 1997 ozone NAAQS for the 2012-2014 monitoring period. This action is also known as a “Clean Data Determination” (see 40 CFR 51.1118).

This proposal is based on EPA's review of complete, quality assured and certified ambient air quality monitoring data for the 2010-2012 and 2012-2014 monitoring periods that are available in the EPA Air Quality System (AQS). The AQS report for these monitors, for 2010 through 2014, is provided in the docket for this rulemaking.

II. Our Action Under Section 182(c) of the CAA (the Serious Area Requirements)

A. Background

1. The National Ambient Air Quality Standards

Section 109 of the CAA requires the EPA to establish NAAQS for pollutants that may reasonably be anticipated to endanger public health and welfare and to develop a primary and secondary standard for each NAAQS. The primary standard is designed to protect human health with an adequate margin of safety and the secondary standard is designed to protect public welfare. The EPA has set NAAQS for six common air pollutants, also referred to as criteria pollutants: Carbon monoxide, lead, nitrogen dioxide, ozone, particulate matter, and sulfur dioxide. These standards present state and local governments with the minimum air quality levels they must meet to comply with the Act.

2. What is a State Implementation Plan?

The SIP is a plan for clean air, required by section 110 and other provisions of the CAA. The Act requires states to develop air pollution regulations and control strategies to ensure that for each area designated nonattainment for a NAAQS, state air quality will improve and meet the NAAQS established by the EPA. A SIP is a set of air pollution regulations, control strategies, other means or techniques, and technical analyses developed by the state, to ensure that the state meets the NAAQS. A SIP protects air quality primarily by addressing air pollution at its point of origin. A SIP can be extensive, containing state regulations or other enforceable documents, and supporting information such as emissions inventories, monitoring networks, and modeling demonstrations. When a state makes changes to the regulations and control strategies in its SIP, such revisions must be submitted to the EPA for approval and incorporation into the federally-enforceable SIP.

3. What is ozone and what is the 1997 8-hour ozone standard?

Ozone is a gas composed of three oxygen atoms. Ground-level ozone is generally not emitted directly from a vehicle's exhaust or an industrial smokestack, but is created by a chemical reaction between volatile organic compounds (VOCs) and oxides of nitrogen (NOX) in the presence of sunlight.¹ Ozone is known primarily as a summertime air pollutant. Motor vehicle exhaust and industrial emissions, gasoline vapors, chemical solvents and natural sources emit NOX and VOCs. Urban areas tend to have high concentrations of ground-level ozone, but areas without significant industrial activity and with relatively low vehicular traffic are also subject to increased ozone levels because wind carries ozone and its precursors hundreds of miles from their sources.²

¹ VOC and NOX are often referred to as “precursors” to ozone formation.

² For additional information on ozone, please visit www.epa.gov/groundlevelozone.

On July 18, 1997, the EPA promulgated an 8-hour ozone NAAQS of 0.08 parts per million (ppm), known as the 1997 ozone standard.³ See 62 FR 38856 and 40 CFR 50.10. Under EPA regulations at 40 CFR part 50, Appendix I, the 1997 ozone standard is attained when the 3-year average of the annual fourth highest daily maximum 8-hour average ambient ozone concentration is less than or equal to 0.08 ppm.

³ On March 27, 2008 (73 FR 16436), the EPA promulgated a revised 8-hour ozone NAAQS of 0.075 ppm, known as the 2008 ozone standard. On April 30, 2012, the EPA promulgated designations under the 2008 ozone standard (77 FR 30088) and in that action, the EPA designated 10 counties in the DFW area as a Moderate ozone nonattainment area: Collin, Dallas, Denton, Ellis, Johnson, Kaufman, Parker, Rockwall, Tarrant, and Wise. The EPA's actions herein do not address the DFW nonattainment area for the 2008 ozone standard.

4. The DFW Nonattainment Area and Its Current Nonattainment Classification Under the 1997 Ozone Standard

On April 30, 2004, the EPA designated and classified the 9-county DFW area (consisting of Collin, Dallas, Denton, Ellis, Johnson, Kaufman, Parker, Rockwall and Tarrant counties) as a Moderate nonattainment area under the 1997 ozone standard with an attainment date of no later than June 15, 2010 (see 69 FR 23858 and 69 FR 23951). However, the DFW area failed to attain the 1997 ozone standard by June 15, 2010, and was accordingly reclassified as a Serious ozone nonattainment area with an attainment date of no later than June 15, 2013 (75 FR 79302, December 20, 2010). Following reclassification to Serious, the State submitted a revised attainment plan for the DFW area dated January 17, 2012. The area failed to attain the 1997 ozone standard by June 15, 2013, and in a separate rulemaking, the EPA proposed to determine that the area did not attain the standard by the attainment date and to reclassify the area to Severe (see 80 FR 8274, February 17, 2015).

5. What is an attainment demonstration?

In general, an attainment demonstration shows how an area will achieve the standard as expeditiously as practicable, but no later than the attainment date specified for its classification. A typical attainment demonstration is made with the use of air quality models that simulate the changes of pollutant concentrations in the atmosphere encompassing the nonattainment area and thus is an estimate.⁴ As a part of this showing, the demonstration should simulate projected emissions growth due to factors such as population growth and pollution reductions due to imposition of controls.

⁴ For more information regarding an attainment demonstration, please see the General Preamble for the Implementation of Title I of the CAA Amendments of 1990 at 57 FR 13498, 13510 (April 16, 1992); 40 CFR 51.112; and 40 CFR 51.908.

6. What did the state submit?

The TCEQ's January 17, 2012 attainment demonstration submittal for the DFW Serious nonattainment area included air quality modeling and a weight-of-evidence analysis in which the state purported that the area would attain by the area's attainment date of June 13, 2013; Motor Vehicle Emissions Budgets (MVEBs) for transportation conformity purposes; an analysis for Reasonably Available Control Measures (RACM); an analysis for Reasonably Available Control Technology (RACT); and a contingency plan. In addition, as part of the submission, the state addressed the CAA requirements for enhanced ambient monitoring and the clean-fuel fleet programs (CFFPs) at section 182(c) of the Act. On November 12, 2014, the EPA approved the RFP plan for the DFW Serious nonattainment area ⁵ and the associated contingency plan and found that the State has fulfilled the CAA requirements for enhanced ambient monitoring and the CFFPs (see 79 FR 67068). On March 27, 2015, the EPA approved the portion of the January 17, 2012 submittal that addresses the RACT requirements (see 80 FR 16291).

⁵ Separately on January 17, 2012, the TCEQ submitted the RFP plan, with contingency measures, for the DFW Serious nonattainment area. That submittal and EPA's action are available at www.regulations.gov, docket number EPA-R06-OAR-2012-0099.

B. What is the EPA proposing to disapprove?

We are proposing to disapprove the DFW Serious area attainment demonstration because it was not adequate for the area to attain the 1997 ozone standard by its attainment date. Because we are disapproving the attainment demonstration, we must also disapprove the associated RACM analysis and MVEBs that are included within that attainment demonstration. Under the Act's RACM requirements, a State must implement all reasonable measures. EPA relates this requirement to the attainment demonstration by interpreting the requirement to call for any reasonable measures be implemented that would accelerate attainment of the standard. Because of the relationship to the attainment demonstration, the RACM analysis cannot be approved. Finally, approvable MVEBs must be consistent with an approvable attainment plan.

C. What are the consequences of a disapproved SIP?

This section explains the consequences of disapproval of a SIP that addresses a mandatory requirement under the CAA. The CAA stipulates the imposition of sanctions and the promulgation of a federal implementation plan (FIP) if EPA disapproves a required plan submission and the deficiency is not corrected within the relevant timeframe.

1. What are the Act's provisions for sanctions?

If the EPA disapproves a required SIP or component(s) of a required SIP, section 179(a) of the Act provides for the imposition of sanctions unless the deficiency is corrected within 18 months of the effective date of the final disapproval. The imposition of sanctions would be stayed if the state submits a SIP for which the EPA proposes full or conditional approval and sanctions would not apply or would be lifted once EPA approves a SIP correcting the deficiency. Additionally, if EPA finalizes a clean data determination (CDD) for the area within the 18 months, the sanctions clocks will be tolled so long as the area remains clean. If the deficiency is not corrected within such timeframe and no CDD is finalized, the first sanction would apply 18 months after the EPA's disapproval of the SIP is effective. Under the EPA's sanctions regulations at 40 CFR 52.31, the first sanction would be an offset ratio of 2:1 for sources subject to the new source review requirements under section 173 of the Act. The second sanction would apply 24 months after the effective date of the final disapproval, unless the deficiency is corrected by that time. The second sanction is a limitation on the use of federal highway funds as provided by section 179(b)(1) of the Act. The EPA also has authority under CAA section 110(m) to sanction a broader area, but is not proposing to take such action in today's rulemaking.

2. What are the Act's provisions for a Federal Implementation Plan?

In addition to sanctions, if the EPA disapproves the required SIP revision, or a portion thereof, section 110(c)(1) of the Act provides that the EPA must promulgate a FIP no later than 2 years from the effective date of the disapproval if the deficiency has not been corrected within that time period. The deficiency would be corrected if the state submits and EPA approves a SIP correcting the deficiency.

3. What action would stop the imposition of sanctions and a FIP?

The State must address the deficiency forming the basis of the disapproval. The sanctions and FIP clocks would also stop (or any imposed sanctions would be lifted) if the area attains the 1997 ozone standard and EPA approves a redesignation substitute for the 1997 ozone NAAQS.⁶ Alternatively, if EPA finalizes the Clean Data Determination (CDD) it is proposing in this action, the sanctions clock and EPA's obligation to promulgate an attainment demonstration FIP would be tolled for so long as the CDD remains in place.⁷

⁶ In EPA's final rule to implement SIP requirements under the 2008 ozone standard (the SIP requirements rule or SRR), among other things, we revoked the 1997 ozone standard and finalized a redesignation substitute procedure for a revoked standard. See 80 FR 12264, March 6, 2015 and 40 CFR 51.1105(b). Under this redesignation substitute procedure for a revoked NAAQS, the demonstration must show that the area has attained that revoked NAAQS due to permanent and enforceable emission reductions and that the area will maintain that revoked NAAQS for 10 years from the date of EPA's approval of this showing.

⁷ In the SRR, the EPA finalized the same approach with respect to the Clean Data Policy for the 2008 ozone NAAQS as it applied in the Phase 1 Rule for the 1997 ozone NAAQS. That is, a determination of attainment would suspend the obligation to submit attainment planning SIP elements for the 2008 ozone NAAQS. Such a determination would suspend the obligation to submit any attainment-related SIP elements not yet approved in the SIP, for so long as the area continues to attain the 2008 ozone NAAQS. In addition, the EPA replaced 40 CFR 51.918 with 40 CFR 51.1118 to consolidate in one regulation a comprehensive provision applicable to determinations of attainment for the current and former ozone NAAQS. Thus, 40 CFR 51.1118 will apply to a determination of attainment that is made with respect to any revoked or current ozone NAAQS—the 1-hour, the 1997 or the 2008 ozone NAAQS. Accordingly, a final CDD would suspend the duty to submit the Serious area SIP revisions and the sanctions and FIP clocks. However, should the area violate the 1997 ozone standard after the CDD is finalized, the EPA would rescind the CDD and the sanctions and FIP clocks would resume. See 80 FR 12264, 12296 and 12317 and 40 CFR 51.1118.

4. What are the ramifications regarding conformity?

In an attainment demonstration SIP the state addresses, among other issues, transportation conformity. Conformity to a SIP means that transportation activities will not produce new air quality violations, worsen existing violations, or delay timely attainment of the NAAQS. Conformity is required by section 176(c) of the Act for ensuring that the effects of emissions from all on-road sources are consistent with attainment of the standard. The federal conformity rules at 40 CFR 93.120 require the implementation of a conformity freeze when the EPA disapproves an attainment demonstration SIP. A conformity freeze can affect an area's long range transportation plans and transportation improvement programs (TIPs). However, EPA's final rule addressing SIP requirements under the 2008 ozone standard and revoking the 1997 ozone standard for all purposes, including transportation conformity, became effective on April 6, 2015 (see 80 FR 12264). Therefore, no conformity freeze will occur for the DFW area upon a final disapproval (see 80 FR 12264, 12284).

III. Our Action Under the Clean Data Determination

A. Background

If EPA's determination that the area is currently attaining the eight-hour ozone standard is finalized, 40 CFR 51.1118 of EPA's ozone implementation rule provides that the requirements for the States to submit certain RFP plans, attainment demonstrations, contingency measures and any other attainment planning requirements of the CAA related to attainment of that standard shall be suspended for as long as the area continues to attain the standard. However, a CDD does not constitute a redesignation to attainment under section 107(d)(3)(E) of the Act, and if EPA determines that the area subsequently violates the standard, that suspension of the requirement to submit the attainment planning SIP provisions is lifted, and those requirements are once again due. Even though EPA has finalized revocation of the 1997 eight-hour ozone NAAQS, under 40 CFR 51.1118, an area remains subject to the obligations for a revoked NAAQS under 40 CFR 51, Appendix S to Subpart AA, Section VII(A) until either (i) the area is redesignated to attainment for the 2008 ozone NAAQS; or (ii) the EPA approves a demonstration for the area in a redesignation substitute procedure for a revoked NAAQS per the provisions of § 51.1105(b). Under this redesignation substitute procedure for a revoked NAAQS, and for this limited anti-backsliding purpose, the demonstration must show that the area has attained that revoked NAAQS due to permanent and enforceable emission reductions and that the area will maintain that revoked NAAQS for 10 years from the date of EPA's approval of this showing. We also note that the Clean Data Determination does not constitute a Determination of Attainment by an Area's Attainment Date under sections 179(c) and 181(b)(2) of the Act.

B. EPA's Analysis of the Relevant Air Quality Data

For ozone, an area is considered to be attaining the 1997 ozone NAAQS if there are no violations, as determined in accordance with 40 CFR part 50, based on three complete, consecutive calendar years of quality-assured air quality monitoring data. Under EPA regulations at 40 CFR part 50, the 1997 ozone standard is attained when the 3-year average of the annual fourth-highest daily maximum 8-hour average ozone concentrations at an ozone monitor is less than or equal to 0.08 parts per million (ppm), (i.e., 0.084 ppm, when rounding, based on the truncating conventions in 40 CFR part 50, Appendix P). This 3-year average is referred to as the design value. When the design value is less than or equal to 0.084 ppm at each monitor within the area, then the area is meeting the NAAQS. Also, the data completeness requirement is met when the average percent of days with valid ambient monitoring data is greater than or equal to 90%, and no single year has less than 75% data completeness as determined in Appendix P of 40 CFR part 50. The data must be collected and quality-assured in accordance with 40 CFR part 58, and recorded in the EPA Air Quality System (AQS). The monitors generally should have remained at the same location for the duration of the monitoring period required for demonstrating attainment. For ease of communication, many reports of ozone concentrations are given in parts per billion (ppb); ppb = ppm × 1,000. Thus, 0.084 ppm equals 84 ppb.

The EPA reviewed the DFW area ozone monitoring data from ambient ozone monitoring stations for the ozone seasons 2012 through 2014. The 2012-2014 ozone season data for all the ozone monitors in the DFW area have been quality assured and certified by the EPA. The design value for 2012-2014 is 81 ppb. At the time of this writing, the preliminary ozone data for 2015 are posted on the TCEQ Web site, but are not yet posted in AQS.⁸ The data for the three ozone seasons 2012-2014, and preliminary data for 2015, show that the DFW area is attaining the 1997 ozone NAAQS.

⁸ See http://www.tceq.texas.gov/agency/data/ozone_data.html.

Table 1 shows the fourth-highest daily maximum 8-hour average ozone concentrations for the DFW nonattainment area monitors for the years 2012-2014. (To find the overall design value for the area for a given year, simply find the highest design value from any of the 17 monitors for that year.)

Table 1—The DFW Area Fourth High 8-Hour Ozone Average Concentrations and Design Values (ppm) for 2012-2014
Site name and No. | 4th Highest daily max: 2012 | 4th Highest daily max: 2013 | 4th Highest daily max: 2014 | Design value (2012-2014)
Fort Worth Northwest, 48-439-1002 | 0.077 | 0.084 | 0.079 | 0.080
Keller, 48-439-2003 | 0.079 | 0.080 | 0.074 | 0.077
Frisco, 48-085-0005 | 0.084 | 0.078 | 0.074 | 0.078
Midlothian OFW, 48-139-0016 | 0.078 | 0.075 | 0.062 | 0.071
Denton Airport South, 48-121-0034 | 0.081 | 0.085 | 0.077 | 0.081
Arlington Municipal Airport, 48-439-3011 | 0.092 | 0.068 | 0.065 | 0.075
Dallas North No. 2, 48-113-0075 | 0.086 | 0.077 | 0.070 | 0.077
Rockwall Heath, 48-397-0001 | 0.080 | 0.073 | 0.066 | 0.073
Grapevine Fairway, 48-439-3009 | 0.086 | 0.083 | 0.073 | 0.080
Kaufman, 48-257-0005 | 0.073 | 0.075 | 0.062 | 0.070
Eagle Mountain Lake, 48-439-0075 | 0.087 | 0.077 | 0.073 | 0.079
Parker County, 48-367-0081 | 0.076 | 0.074 | 0.072 | 0.074
Cleburne Airport, 48-251-0003 | 0.082 | 0.077 | 0.071 | 0.076
Dallas Hinton St., 48-113-0069 | 0.087 | 0.081 | 0.066 | 0.078
Dallas Executive Airport, 48-113-0087 | 0.085 | 0.074 | 0.062 | 0.073
Pilot Point, 48-121-1032 | 0.078 | 0.084 | 0.075 | 0.079
Italy, 48-139-1044 | 0.071 | 0.072 | 0.060 | 0.067

As shown in Table 1, the 8-hour ozone design value for 2012-2014, which is based on a three-year average of the fourth-highest daily maximum average ozone concentration at the monitor recording the highest concentrations, is 81 ppb, which meets the 1997 ozone NAAQS. Data for 2015 not yet certified also indicate that the area continues to attain the 1997 ozone NAAQS. The AQS data reports for the DFW area for the three years 2012 through 2014 and a technical support document are included in the docket for this rulemaking.

IV. Proposed Action

The EPA is proposing to disapprove certain elements of the attainment demonstration SIP submitted by the TCEQ for the DFW Serious ozone nonattainment area under the 1997 8-hour ozone NAAQS. Specifically, we are proposing to disapprove the attainment demonstration, the demonstration for RACM, and the attainment demonstration MVEBs for 2012. The EPA is proposing to disapprove these SIP revisions because the area failed to attain the standard by its June 15, 2013 attainment date, and thus we have determined that the plan was insufficient to demonstrate attainment by the attainment date. The EPA is also proposing to determine that the DFW 8-hour ozone nonattainment area is currently attaining the 1997 ozone NAAQS. This determination is based upon certified ambient air monitoring data that show the area has monitored attainment of the 1997 ozone NAAQS for the 2012-2014 monitoring period.

V. Statutory and Executive Order Reviews

Under the CAA, the Administrator is required to approve a SIP submission that complies with the provisions of the Act and applicable Federal regulations. 42 U.S.C. 7410(k); 40 CFR 52.02(a). Thus, in reviewing SIP submissions, EPA's role is to act on state law as meeting Federal requirements and does not impose additional requirements beyond those imposed by state law.

A. Executive Order 12866: Regulatory Planning and Review and Executive Order 13563: Improving Regulation and Regulatory Review

This proposed action is not a “significant regulatory action” under the terms of Executive Order 12866 (58 FR 51735, October 4, 1993) and is therefore not subject to review under Executive Orders 12866 and 13563 (76 FR 3821, January 21, 2011).

B. Paperwork Reduction Act

This proposed action does not impose an information collection burden under the provisions of the Paperwork Reduction Act, 44 U.S.C. 3501 et seq., because this proposed SIP disapproval under section 110 and subchapter I, part D of the CAA will not in-and-of itself create any new information collection burdens but simply disapproves certain State requirements for inclusion into the SIP. Burden is defined at 5 CFR 1320.3(b).

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions. For purposes of assessing the impacts of today's rule on small entities, small entity is defined as: (1) A small business as defined by the Small Business Administration's (SBA) regulations at 13 CFR 121.201; (2) a small governmental jurisdiction that is a government of a city, county, town, school district or special district with a population of less than 50,000; and (3) a small organization that is any not-for-profit enterprise which is independently owned and operated and is not dominant in its field.

After considering the economic impacts of today's proposed rule on small entities, I certify that this action will not have a significant impact on a substantial number of small entities. This rule does not impose any requirements or create impacts on small entities. This proposed SIP disapproval under section 110 and subchapter I, part D of the CAA will not in-and-of itself create any new requirements but simply disapproves certain State requirements for inclusion into the SIP. Accordingly, it affords no opportunity for EPA to fashion for small entities less burdensome compliance or reporting requirements or timetables or exemptions from all or part of the rule. The fact that the CAA prescribes that various consequences (e.g., higher offset requirements) may or will flow from this disapproval does not mean that EPA either can or must conduct a regulatory flexibility analysis for this action. Therefore, this action will not have a significant economic impact on a substantial number of small entities.

We continue to be interested in the potential impacts of this proposed rule on small entities and welcome comments on issues related to such impacts.

D. Unfunded Mandates Reform Act

This action contains no Federal mandates under the provisions of Title II of the Unfunded Mandates Reform Act of 1995 (UMRA), 2 U.S.C. 1531-1538 for State, local, or tribal governments or the private sector.” EPA has determined that the proposed disapproval action does not include a Federal mandate that may result in estimated costs of $100 million or more to either State, local, or tribal governments in the aggregate, or to the private sector. This action proposes to disapprove pre-existing requirements under State or local law, and imposes no new requirements. Accordingly, no additional costs to State, local, or tribal governments, or to the private sector, result from this action.

E. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed action does not have federalism implications. It will not have substantial direct effects on the States, on the relationship between the national government and the States, or on the distribution of power and responsibilities among the various levels of government, as specified in Executive Order 13132, because it merely disapproves certain State requirements for inclusion into the SIP and does not alter the relationship or the distribution of power and responsibilities established in the CAA. Thus, Executive Order 13132 does not apply to this action.

F. Executive Order 13175, Coordination With Indian Tribal Governments

The SIP is not approved to apply on any Indian reservation land or in any other area where EPA or an Indian tribe has demonstrated that a tribe has jurisdiction. In those areas of Indian country, this proposed action does not have tribal implications and will not impose substantial direct costs on tribal governments or preempt tribal law as specified by Executive Order 13175 (65 FR 67249, November 9, 2000).

G. Executive Order 13045, Protection of Children From Environmental Health Risks and Safety Risks

EPA interprets Executive Order 13045 (62 FR 19885, April 23, 1997) as applying only to those regulatory actions that concern health or safety risks, such that the analysis required under section 5-501 of the Executive Order has the potential to influence the regulation. This proposed action is not subject to Executive Order 13045 because it because it is not an economically significant regulatory action based on health or safety risks subject to Executive Order 13045 (62 FR 19885, April 23, 1997). This proposed SIP disapproval under section 110 and subchapter I, part D of the CAA will not in-and-of itself create any new regulations but simply disapproves certain State requirements for inclusion into the SIP.

H. Executive Order 13211, Actions That Significantly Affect Energy Supply, Distribution or Use

This proposed action is not subject to Executive Order 13211 (66 FR 28355, May 22, 2001) because it is not a significant regulatory action under Executive Order 12866.

I. National Technology Transfer and Advancement Act

Section 12(d) of the National Technology Transfer and Advancement Act of 1995 (“NTTAA”), Public Law 104-113, section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards.

The EPA believes that this proposed action is not subject to requirements of Section 12(d) of NTTAA because application of those requirements would be inconsistent with the CAA.

J. Executive Order 12898: Federal Actions To Address Environmental Justice in Minority Populations and Low-Income Populations

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

EPA lacks the discretionary authority to address environmental justice in this proposed action. In reviewing SIP submissions, EPA's role is to approve or disapprove state choices, based on the criteria of the CAA. Accordingly, this action merely proposes to disapprove certain State requirements for inclusion into the SIP under section 110 and subchapter I, part D of the CAA and will not in-and-of itself create any new requirements. Accordingly, it does not provide EPA with the discretionary authority to address, as appropriate, disproportionate human health or environmental effects, using practicable and legally permissible methods, under Executive Order 12898.

K. Statutory Authority

The statutory authority for this action is provided by section 110 of the CAA, as amended (42 U.S.C. 7410).

List of Subjects in 40 CFR Part 52

Environmental protection, Air pollution control, Incorporation by reference, Intergovernmental relations, Ozone, Reporting and recordkeeping requirements, Volatile organic compounds.

Dated: April 17, 2015.
Ron Curry,
Regional Administrator, Region 6.

[FR Doc. 2015-09901 Filed 4-27-15; 8:45 am]

BILLING CODE 6560-50-P